DEPARTMENT OF AGRICULTURE

Office of the Secretary

Notice of Request for Extension of a Currently Approved Information Collection

AGENCY: National Appeals Division, U.S. Department of Agriculture.

ACTION: Notice and request for comments.

SUMMARY: In accordance with the Paperwork Reduction Act of 1995, this notice announces the U.S. Department of Agriculture, National Appeals Division's request for an extension to a currently approved information collection for Customer Service Survey.

DATES: Comments on this notice must be received by July 10, 2017 to be assured of consideration.

ADDRESSES: The National Appeals Division invites interested persons to submit comments on this notice. Comments may be submitted by one of the following methods:

• Federal eRulemaking Portal: This Web site provides the ability to type short comments directly into the comment field on this Web page or attach a file for lengthier comments.

• Go to http://www.regulations.gov. Follow the on-line instructions at that site for submitting comments.

FOR FURTHER INFORMATION CONTACT: Dr. Angela Parham, U.S. Department of Agriculture, National Appeals Division, 3101 Park Center Drive, Suite 1100, Alexandria, Virginia 22302-1500, 703.305.2588.

SUPPLEMENTARY INFORMATION: Title: National Appeals Division Customer Service Survey.

OMB Number: 0503-0007.

Expiration Date of Approval: September 2017.

Type of Request: Extension of a currently approved information collection.

Abstract: Executive Order 12862, requires Federal Agencies to identify the customers who are or should be served by the Agency and survey those customers to determine the kind and quality of services they want and level of satisfaction with existing services. Therefore, NAD proposes to extend its currently approved information collection survey.

Estimate of Burden: Public reporting burden for this collection of information is estimated to average .17 hours per response.

Respondents: Appellants, producers, and other USDA agencies.

Estimated Number of Respondents: 1600.

Estimated Number of Responses per Respondent: 1.

Estimated Total Annual Burden on Respondents: 272.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Comments may be sent to Dr. Angela Parham, U.S. Department of Agriculture, National Appeals Division, 3101 Park Center Drive, Suite 1100, Alexandria, Virginia 22301-1500. All comments received will be available for public inspection during regular business hours at the same address. All responses to this notice will be summarized and included in the request for OMB approval. All comments will become a matter of public record.

Steven C. Silverman,
Director, National Appeals Division.

[FR Doc. 2017-09406 Filed 5-9-17; 8:45 am]

BILLING CODE P